DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on January 13, 2011 (Federal Register/Vol. 76, No. 9/pp. 2442-2444).

DATES: Submit comments to the Office of Management and Budget (OMB) on or before January 17, 2012.

FOR FURTHER INFORMATION CONTACT: Alan Block at the National Highway Traffic Safety Administration, Office of Behavioral Safety Research (NTI-131), W46-499, Department of Transportation, 1200 New Jersey Avenue SE., Washington, DC 20590. Mr. Block's phone number is (202) 366-6401 and his email address is alan.block@dot.gov

SUPPLEMENTARY INFORMATION:

OMB Control Number: 2127-New.

Title: Demonstration Tests of Different High Visibility Enforcement Models.

Form No.: NHTSA Forms 1121 and 1122.

Type of Review: Regular.

Respondents: Telephone interviews will be administered to residents in each of five selected communities who are drivers, age 18 and older, have access to a residential landline and/or a personal cell phone, and have consumed alcohol in the past year. In-person interviews will be conducted in each of the five selected communities with bar patrons age 21 and older.

Estimated Number of Respondents: 18,750 telephone interviews and 6,000 bar patron interviews.

Estimated Time per Response: 10 minutes per interview.

Total Estimated Annual Burden Hours: 4,125 hours.

Frequency of Collection: There will be three survey waves at each of the five community sites. For the telephone survey, most respondents will be interviewed once. A small subset will be re-interviewed during the second and third survey waves. For the bar patron survey, which also will involve three survey waves at each of the five community sites, each respondent will be interviewed once. That interview will be split such that questions will be asked of each respondent both during entry and exit from the bar.

Abstract: Highly visible enforcement (HVE) has had the strongest support in the research literature for effectiveness in reducing alcohol-impaired driving. The unknown at this time is the relationship of the amount of HVE to perceived risk within a community of an alcohol-impaired driver being stopped by law enforcement. In particular, does the perceived risk increase as the amount of HVE increases? And is the optimum effect on awareness and perceived risk achieved through an integrated program where HVE is integrated into regular law enforcement operations? NHTSA proposes to answer those questions by selecting community sites that will engage in different levels of HVE activity during a one-year intervention period, and monitoring community awareness of those enforcement programs and the perceived risk of an alcohol-impaired driver being stopped by law enforcement. Five sites will be selected encompassing integrated, intermediate, and more limited HVE programs.

Data collection to assess program awareness and perceived risk will be of two forms. A telephone survey will be conducted in each of the five communities prior to the onset of the intervention, at an interim point in the program, and at its conclusion, for a total of three survey waves per community. Most respondents will be interviewed once; however, a subset will be re-interviewed during the second and third survey waves to examine individual changes in perceptions and awareness over time. The initial survey wave in each community will be composed of 1,200 completed interviews. One hundred respondents in each community from the first survey wave will be re-interviewed during the second survey wave. The second wave will also include interviews with 1,200 new respondents per community for a total of 1,300 interviews. Fifty respondents re-interviewed during the second survey wave will be interviewed a final time during the third survey wave. They will be added to 1,200 new survey respondents per community for a total of 1,250 interviews.

The second form of data collection will be in-person interviews with bar patrons. The intent here is to collect information on program awareness and perceived risk from a population with a heavier concentration of individuals at-risk of driving at illegal blood alcohol concentrations (BACs) than one would find in a general population survey. Similar to the telephone surveys, there will be a baseline, interim and final data collection wave at each of the five community sites. Four hundred bar patrons will be interviewed per community per survey wave. Respondents will be asked a few questions both upon entry and exit from the bar. Breath samples will also be taken in order to correlate BAC with awareness and perceived risk. The breath test results will not be available on-site but will be downloaded later.

In conducting the telephone interviews, the interviewers would use computer-assisted telephone interviewing to reduce interview length and minimize recording errors. The data collection at bars would be anonymous; no personal information that would allow anyone to identify respondents will be collected. The telephone interviews during the initial survey wave will include collection of personally identifying information from a subset of respondents in order to conduct a small number of re-interviews with them during the two subsequent survey waves. However, that information will be held exclusively by the survey contractor, protected from disclosure to any other parties, and destroyed once no longer needed for re-contacting prospective respondents. Moreover, the personally identifiable information will be separated from the survey responses.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: (202) 395-5806.

Comments Are Invited On: whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Jeff Michael,
Associate Administrator, Research and Program Development.

[FR Doc. 2011-32289 Filed 12-15-11; 8:45 am]

BILLING CODE 4910-59-P